GENERAL SERVICES ADMINISTRATION

41 CFR Part 101-25

[FPMR Amendment E-279]

RIN 3090-AH58

Federal Property Management Regulations; General Policies

AGENCY: Office of Governmentwide Policy, GSA.

ACTION: Final rule.

SUMMARY: This final rule amends the general policies portion of the Federal Property Management Regulations (FPMR) by removing those provisions requiring that promotional benefits, including frequent flyer miles, earned on official travel are the property of the Government. On December 28, 2001, The President signed into law a provision that Federal employees may retain such promotional items for personal use.

EFFECTIVE DATE: This final rule is effective April 11, 2002.

FOR FURTHER INFORMATON CONTACT: Henry Maury, Office of Governmentwide Policy, telephone (202) 208-7928.

SUPPLEMENTARY INFORMATION:

A. Background

The changes in this final rule clarify an existing section of subpart 101-25.1 of the FPMR by removing the requirement that promotional items, including frequent flyer miles, earned on official travel belong to the Government. The law that prohibited employees from retaining promotional items, including frequent flyer miles, Section 6008 of the Federal Acquisition Streamlining Act of 1994 (Public Law 103-355), has been repealed by the National Defense Authorization Act (Public Law 107-107)for Fiscal Year 2002. This final rule removes the requirement that frequent traveler benefits earned through official travel belong to the Government, and permits such benefits to be retained by the employee for personal use.

B. Executive Order 12886

GSA has determined that this final rule is not a significant regulatory action for the purposes of Executive Order 12866 of September 30, 1993.

C. Regulatory Flexibility Act

This final rule is not required to be published in the Federal Register for notice and comment; therefore, the Regulatory Flexibility Act does not apply.

D. Paperwork Reduction Act

The Paperwork Reduction Act does not apply because the final rule does not impose recordkeeping or information collection requirements, or the collection of information from offerors, contractors, or members of the public which require the approval of the Office of Management and Budget under 44 U.S.C. 501 et seq.

E. Small Business Regulatory Enforcement Fairness Act

This final rule is also exempt from congressional review under 5 U.S.C. 801 since it relates solely to agency management and personnel.

List of Subjects in 41 CFR Part 101-25

Government property management.

For the reasons set out in the preamble, 41 CFR part 101-25 is amended as follows:

PART 101-25—GENERAL

1. The authority citation for 41 CFR part 101-25 continues to read as follows:

Authority: Sec 205(c), 63 Stat. 390; 40 U.S.C. 486(c).

§ 101-25.103-2 [Removed and Reserved]

2. Section 101-25.103-2 is removed and reserved.

Dated: April 1, 2002.
Stephen A. Perry,
Administrator of General Services.

[FR Doc. 02-8755 Filed 4-10-02; 8:45 am]

BILLING CODE 6820-14-P